NATIONAL AERONAUTICS AND SPACE ADMINISTRATION

[Notice (08-052 )]

Aerospace Safety Advisory Panel; Meeting

AGENCY: National Aeronautics and Space Administration (NASA).

ACTION: Notice of Meeting.

SUMMARY: In accordance with the Federal Advisory Committee Act, Public Law 92-463, as amended, the National Aeronautics and Space Administration announce a forthcoming meeting of the Aerospace Safety Advisory Panel (ASAP).

DATES: Thursday, July 17, 2008, 1 p.m. to 3 p.m. Central Time.

ADDRESSES: Marshall Space Flight Center (MSFC), Building 4200, Room 504 (5th floor), Marshall Space Flight Center, AL 35812-0001. (Note that visitors will first need to go to the MSFC Visitor's Center to gain access.)

FOR FURTHER INFORMATION CONTACT: Ms. Kathy Dakon, ASAP Executive Director, National Aeronautics and Space Administration, Washington, DC 20546, (202) 358-0732.

SUPPLEMENTARY INFORMATION: The ASAP will hold its 3rd Quarterly Meeting for 2008. This discussion is pursuant to carrying out its statutory duties for which the Panel reviews, identifies, evaluates, and advises on those program activities, systems, procedures, and management activities that can contribute to program risk. Priority is given to those programs that involve the safety of human flight. The agenda will include updates on Constellation Program Safety, Columbia Accident Investigation Board and Return to Flight Progress, and Technical Authority.

The meeting will be open to the public up to the seating capacity of the room. It is imperative that the meeting be held on this date to accommodate the scheduling priorities of the key participants. Photographs will only be permitted during the first 10 minutes of the meeting. During the first 30 minutes of the meeting, members of the public may make a 5-minute verbal presentation to the Panel on the subject of safety in NASA. To do so, please contact Ms. Susan Burch on (202) 358-0550 at least 48 hours in advance. Any member of the public is permitted to file a written statement with the Panel at the time of the meeting. Verbal presentations and written comments should be limited to the subject of safety in NASA. The meeting will be open to the public up to the seating capacity of the room. All U.S. citizens desiring to attend the ASAP Meeting at the MSFC must provide their full name, company affiliation (if applicable), citizenship, place of birth, and date of birth to the MSFC Security Office no later than the close of business on July 11, 2008. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and Passport information to include Country of issue, number, and expiration date to the MSFC Security Office no later than the close of business on July 7, 2008. If the above information is not received by the noted dates, attendees should expect a minimum delay of two (2) hours. All visitors to this meeting will be required to process in through the Redstone/MSFC Joint Visitor Control Center located on Rideout Road, north of Gate 9 prior to entering MSFC. Please provide the appropriate data, via fax 256-544-2101, noting at the top of the page “Public Admission to the Aerospace Safety Advisory Panel Meeting at MSFC.” For security questions, please call Becky Hopson at 256-544-4541.

Michael F. O'Brien,
Assistant Administrator for External Relations.

[FR Doc. E8-14817 Filed 6-30-08; 8:45 am]

BILLING CODE 7510-13-P